DEPARTMENT OF TRANSPORTATION

Office of the Secretary

Notice of Applications for Certificates of Public Convenience and Necessity and Foreign Air Carrier Permits Filed Under Subpart B (Formerly Subpart Q) During the Week Ending September 15, 2006

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2006-24629.

Date Filed: September 11, 2006.

Due Date for Answers, Conforming Applications, or Motion to Modify Scope:October 2, 2006.

Description: Application of Yangtze River Express Airlines Co., Ltd. requesting to amend its foreign air carrier permit to serve Anchorage, AK as a co-terminal with Los Angeles, CA, as authorized by the current bilateral air transport agreement between the Governments of the United States of America and the People's Republic of China, and not as a technical stop only, as applied for in the original application.

Docket Number: OST-2006-25857.

Date Filed: September 14, 2006.

Due Date for Answers, Conforming Applications, or Motion to Modify Scope:October 5, 2006.

Description: Application of Sundance Air Venezuela S.A. requesting a foreign air carrier permit authorizing it to engage in charter (non-scheduled) foreign air transportation of property and mail between an airport or airports in Venezuela, to an airport or airports in the United States of America, to include: Aguadilla, Puerto Rico; and San Juan, Puerto Rico.

Renee V. Wright,
Program Manager, Docket Operations, Federal Register Liaison.

[FR Doc. E6-16875 Filed 10-11-06; 8:45 am]

BILLING CODE 4910-9X-P